DEPARTMENT OF HOMELAND SECURITY

Bureau of Customs and Border Protection

Cancellation of Customs Broker License Due to Death of the License Holder

AGENCY: Bureau of Customs and Border Protection, Department of Homeland Security.

ACTION: General notice.

SUMMARY: Notice is hereby given that, pursuant to Title 19 of the Code of Federal Regulations § 111.51(a), the following individual Customs broker licenses and any and all permits have been cancelled due to the death of the broker:

Name | License No. | Port name
Enoch Van Hoesen | 2528 | New York.
Manuel A. Gonzalez | 05742 | Miami.
Sherry A. Ireland | 22657 | Detroit.
Joan P. Shindledecker | 9808 | Baltimore.
Robert E. Finley, Sr. | 3448 | Mobile.
Gabe S. Fountain | 9170 | Mobile.

Dated: March 18, 2005.
William S. Heffelfinger III,
Acting Assistant Commissioner, Office of Field Operations.

[FR Doc. 05-6105 Filed 3-28-05; 8:45 am]

BILLING CODE 4820-02-P